DEPARTMENT OF ENERGY

Federal Energy Regulatory Commission

[Docket No. RP99-513-007]

Questar Pipeline Company; Notice of Negotiated Rate

April 18, 2001.

Take notice that on April 13, 2001, Questar Pipeline Company's (Questar) tendered for filing a tariff filing to implement a negotiated-rate contract as authorized by Commission orders issued October 27, 1999, and December 14, 1999, in Docket Nos. RP99-513, et al. The Commission approved Questar's request to implement a negotiated-rate option for Rate Schedules T-1, NNT, T-2, PKS, FSS and ISS shippers. Questar submitted its negotiated-rate filing in accordance with the Commission's Policy Statement in Docket Nos. RM95-6-000 and RM 96-7-000 (Policy Statement) issued January 31, 1996.

Questar submitted this filing to report an amended negotiated-rate contract with Phillips Gas Marketing Company (Phillips) (previously River Gas Corporation). After entering into a negotiated-rate contract with Questar, Phillips subsequently permanently released a portion of its capacity to Texaco Natural Gas, Inc. under Questar's Rate Schedule T-1. The Regulatory Department responsible for reporting negotiated-rate contracts to the Commission only recently became aware of this release and, therefore, is late in reflecting this information in its tariff. Due to this inadvertent reporting error, Questar requested waiver of 18 CFR 154.207 so that the tendered tariff sheet may become effective August 1, 2000.

Questar states that a copy of this filing has been served upon Questar's customers, the Public Service Commission of Utah and the Public Service Commission of Wyoming.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-10034 Filed 4-23-01; 8:45 am]

BILLING CODE 6717-01-M